DEPARTMENT OF THE INTERIOR

Bureau of Indian Affairs

Public Notice of Lands Previously Conveyed Into Trust and Proclaimed as Reservation For Mississippi Band of Choctaw Indians by Act of Congress

AGENCY: Bureau of Indian Affairs, Interior.

ACTION: Notice.

SUMMARY: The Bureau of Indian Affairs is giving public notice of the act of Congress which has conveyed certain fee properties into trust and proclaimed reservation status for the Mississippi Band of Choctaw Indians.

FOR FURTHER INFORMATION CONTACT: Ben Burshia, Bureau of Indian Affairs, Division of Real Estate Services, Mail Stop 4639-MIB, 1849 C Street, NW., Washington, DC 20240, Telephone (202) 208-7737.

SUPPLEMENTARY INFORMATION: The original reservation proclamation establishing the Mississippi Choctaw Indian Reservation was issued December 23, 1944 (9 FR 14907), by virtue of the authority of the Act of June 21, 1939 (53 Stat. 573), and section 7 of the Act of June 18, 1934 (48 Stat. 986). Pursuant to section 1(a)(2) of the Act of June 29, 2000, Public Law 106-228 (114 Stat. 228), certain lands then held in fee by the Mississippi Band of Choctaw Indians were placed into federal trust status. The Act provided:

“All land held in fee by the Mississippi Band of Choctaw Indians located within the boundaries of the State of Mississippi, as shown in the report entitled “Report of Fee Lands owned by the Mississippi Band of Choctaw Indians,” dated September 28, 1999, on file in the Office of the Superintendent, Choctaw Agency, Bureau of Indian Affairs, Department of the Interior, is hereby declared to be held by the United States in trust for the benefit of the Mississippi Band of Choctaw Indians; * * *.”

Section 1(a)(1) of Public Law 106-228 also provided that “all lands taken in trust by the United States for the benefit of the Mississippi Band of Choctaw Indians on or after December 23, 1944, shall be part of the Mississippi Choctaw Indian Reservation.” This Act was amended by section 811 of the Act of December 27, 2000, Public Law 106-568 (114 Stat. 2868), which provided:

Section 1(a)(2) of Pub. L. 106-228 (an Act to make technical corrections to the status of certain land held in trust for the Mississippi Band of Choctaw Indians, to take certain land into trust for that Band, and for other purposes) is amended by striking “September 28, 1999” and inserting “February 7, 2000.”

The February 7, 2000, report referenced in section 811 of Public Law 106-568 added lands to those originally identified in the September 28, 1999, report referenced in section 1(a)(2) of Public Law 106-228. All of those lands were placed into trust and made a part of the reservation. Revised legal descriptions for some of those lands were approved by Congress by section 107 of the Act of March 2, 2004, Public Law 108-204 (118 Stat. 542), as reflected in a Report of May 17, 2002, on file at the Choctaw Agency, Bureau of Indian Affairs. Legal descriptions for all parcels initially placed into trust and reservation status for the Mississippi Band of Choctaw Indians by Public Law 106-228, as amended by Public Law 106-568, as amended by Public Law 108-204, are referenced in Appendix I to this Notice.

Additional lands have been taken into trust by the United States for the Mississippi Band of Choctaw Indians pursuant to 25 U.S.C. 465 after December 23, 1944, and before June 29, 2000. All such lands were made part of the Mississippi Choctaw Indian Reservation by section 1(a)(1) of Public Law 106-228. The legal descriptions for those other tracts are not set out in this notice.

Pursuant to section 1(a)(1) of Public Law 106-228, if and when additional lands are taken into trust by the United States for the Mississippi Band of Choctaw Indians, pursuant to 25 U.S.C. 465 or by other authority, each such additional land parcel shall automatically become a part of the Mississippi Choctaw Indian Reservation without the need for any other formal declaration to that effect pursuant to 25 U.S.C. 467.

All of the Choctaw reservation lands referenced in this notice constitute Indian Country under 18 U.S.C. 1151(a).

Dated: March 24, 2007.
Carl J. Artman,
Assistant Secretary—Indian Affairs.

APPENDIX I

Lands placed into trust and reservation status for the Mississippi Band of Choctaw Indians within the State of Mississippi by Public Law 106-228, 114 Stat. 462, Act of June 29, 2000, as amended by Title VIII, Sec. 811 of Public Law 106-568, Act of December 27, 2000, 114 Stat. 2868 and Sec. 107 of Public Law 108-204, Act of March 2, 2004, 118 Stat 542. The reference numbers shown below are from Exhibit A to the report of May 17, 2002, on file at the Choctaw Agency, Bureau of Indian Affairs, Philadelphia, Mississippi, as referenced in Sec. 107 of Public Law 108-204, Act of March 2, 2004, 118 Stat. 542.

Reference Nos. | Choctaw reservation community | Township | Range | Section | County | Book & page from county records
1 | Bogue Chitto | 14N | 15E | 16 | NOXUBEE | 553/503
2 | Bogue Chitto | 11N | 14E | 7 | KEMPER | 268/220
3 | Bogue Chitto | 11N | 14E | 18 | KEMPER | 280/193
4 | Bogue Chitto | 12N | 14E | 32 | KEMPER | A222/845
5 | Bogue Chitto | 12N | 13E | 2 | NESHOBA | A223/6
6 | Bogue Chitto | 11N | 14E | 17 | KEMPER | 280/193
7 | Bogue Chitto | 11N | 14E | 7 | KEMPER | 270/71
8 | Bogue Chitto | 11N | 14E | 5 | KEMPER | A222/845
9 | Bogue Chitto | 11N | 14E | 7 | KEMPER | 274/14
10 | Bogue Chitto | 11N | 13E | 10 | NESHOBA | A221/258
11 | Bogue Chitto | 12N | 13E | 36 | NESHOBA | A217/346
12 | Bogue Chitto | 12N | 14E | 30 | KEMPER | A222/845
13 | Bogue Chitto | 11N | 13E | 1 | NESHOBA | A217/343
14 | Bogue Chitto | 11N | 13E | 2 | NESHOBA | A219/269
15 | Bogue Chitto | 11N | 13E | 13 | NESHOBA | A221/258
16 | Bogue Chitto | 11N | 13E | 12 | NESHOBA | A217/343
17 | Bogue Chitto | 11N | 13E | 1 | NESHOBA | A217/346
18 | Bogue Chitto | 12N | 13E | 25 | NESHOBA | A222/845
19 | Bogue Chitto | 11N | 14E | 27 | KEMPER | 228/47
22 | Bogue Chitto | 11N | 14E | 28 | KEMPER | 228/47
23 | Bogue Chitto | 12N | 13E | 1 | NESHOBA | A223/6
24 | Bogue Chitto | 11N | 14E | 21 | KEMPER | 228/47
25 | Bogue Chitto | 12N | 14E | 31 | KEMPER | A222/845
26 | Conehatta | 07N | 10E | 28 | NEWTON | 262/692
27 | Conehatta | 07N | 10E | 3 | NEWTON | 267/474
28 | Conehatta | 07N | 10E | 9 | NEWTON | 266/167
29 | Conehatta | 07N | 10E | 9 | NEWTON | 252/33
32 | Conehatta | 07N | 10E | 10 | NEWTON | 252/33
35 | Conehatta | 07N | 10E | 21 | NEWTON | 262/692
36 | Crystal Ridge | 14N | 13E | 35 | WINSTON | 218/220
37 | Bogue Chitto | 12N | 13E | 3 | WINSTON | 238/375
38 | Bogue Chitto | 12N | 13E | 2 | WINSTON | 230/206
39 | Bogue Chitto | 11N | 12E | 30 | NESHOBA | A228/897
41 | Bogue Chitto | 11N | 12E | 30 | NESHOBA | A93/144
43 | Pearl River | 11N | 10E | 28 | NESHOBA | A217/90
44 | Pearl River | 11N | 11E | 20 | NESHOBA | A239/448
45 | Pearl River | 11N | 10E | 33 | NESHOBA | A239/779
46 | Pearl River | 11N | 11E | 29 | NESHOBA | A239/270
47 | Pearl River | 11N | 11E | 2 | NESHOBA | A227/100
48 | Pearl River | 11N | 10E | 34 | NESHOBA | A226/879
49 | Pearl River | 11N | 10E | 33 | NESHOBA | A239/777
50 | Pearl River | 11N | 10E | 28 | NESHOBA | A239/779
51 | Pearl River | 11N | 11E | 29 | NESHOBA | A230/823
52 | Pearl River | 11N | 11E | 1 | NESHOBA | A227/100
53 | Pearl River | 11N | 11E | 9 | NESHOBA | A227/100
54 | Pearl River | 11N | 11E | 4 | NESHOBA | A227/100
55 | Pearl River | 11N | 11E | 3 | NESHOBA | A227/100
56 | Pearl River | 11N | 11E | 10 | NESHOBA | A227/100
57 | Pearl River | 11N | 11E | 28 | NESHOBA | A230/823
58 | Pearl River | 11N | 10E | 14 | NESHOBA | A223//650
59 | Pearl River | 11N | 11E | 30 | NESHOBA | A146/501
60 | Pearl River | 11N | 11E | 29 | NESHOBA | A238/406
61 | Pearl River | 11N | 10E | 18 | NESHOBA | A228/465
62 | Pearl River | 11N | 09E | 13 | LEAKE | A228/465
64 | Pearl River | 11N | 11E | 29 | NESHOBA | A151/704
65 | Pearl River | 11N | 11E | 29 | NESHOBA | A150/577
66 | Pearl River | 11N | 11E | 6 | NESHOBA | A235/124
67 | Pearl River | 11N | 11E | 29 | NESHOBA | A151/22
68 | Pearl River | 11N | 11E | 29 | NESHOBA | A151/24
69 | Pearl River | 11N | 11E | 20 | NESHOBA | A220/842
70 | Pearl River | 11N | 10E | 28 | NESHOBA | A217/255
71 | Pearl River | 11N | 11E | 30 | NESHOBA | A216/716
72 | Pearl River | 11N | 11E | 30 | NESHOBA | A239/270
73 | Pearl River | 11N | 10E | 36 | NESHOBA | A161/528
74 | Pearl River | 11N | 11E | 29 | NESHOBA | A150/581
75 | Pearl River | 11N | 11E | 29 | NESHOBA | A232/764
76 | Pearl River | 11N | 11E | 30 | NESHOBA | A201/138
77 | Pearl River | 11N | 11E | 18 | NESHOBA | A140/142
78 | Pearl River | 11N | 11E | 19 | NESHOBA | A140/142
79 | Pearl River | 11N | 11E | 31 | NESHOBA | A239/270
80 | Pearl River | 11N | 11E | 29 | NESHOBA | A231/15
81 | Pearl River | 11N | 11E | 29 | NESHOBA | A238/408
83 | Pearl River | 11N | 10E | 11 | NESHOBA | A223/650
84 | Pearl River | 11N | 11E | 20 | NESHOBA | A219/550
85 | Pearl River | 11N | 11E | 30 | NESHOBA | A146/221
86 | Pearl River | 11N | 11E | 32 | NESHOBA | A239/270
87 | Red Water | 10N | 07E | 2 | LEAKE | 228/627
88 | Red Water | 10N | 07E | 2 | LEAKE | 228/630
89 | Red Water | 11N | 07E | 36 | LEAKE | 235/549
90 | Red Water | 11N | 07E | 35 | LEAKE | 235/696
91 | Red Water | 11N | 07E | 36 | LEAKE | 163/440
92 | Red Water | 11N | 07E | 26 | LEAKE | 233/424
93 | Red Water | 10N | 08E | 6 | LEAKE | 235/483
96 | Standing Pine | 10N | 08E | 34 | LEAKE | 154/624
97 | Standing Pine | 10N | 09E | 29 | LEAKE | 221/614
98 | Standing Pine | 09N | 08E | 2 | LEAKE | 143/726
99 | Standing Pine | 10N | 09E | 30 | LEAKE | 221/614
100 | Standing Pine | 09N | 08E | 3 | LEAKE | 221/633
101 | Standing Pine | 10N | 09E | 9 | LEAKE | 221/616
102 | Tucker | 10N | 12E | 28 | NESHOBA | A229/665
103 | Tucker | 10N | 12E | 21 | NESHOBA | A229/665
105 | Red Water | 13N | 7E | 36 | ATTALA | 607/612
106 | Red Water | 13N | 7E | 25 | ATTALA | 607/612
107 | Red Water | 12N | 7E | 1 | LEAKE | 607/612
108 | Red Water | 12N | 7E | 2 | LEAKE | 607/612
109 | Red Water | 13N | 7E | 35 | ATTALA | 607/612
110 | Bogue Chitto | 11N | 14E | 5 | KEMPER | 294/568

[FR Doc. E7-6143 Filed 4-2-07; 8:45 am]

BILLING CODE 4310-W7-P